OFFICE OF PERSONNEL MANAGEMENT

5 CFR Part 532

RIN 3206-AJ30

Prevailing Rate Systems; Change in the Survey Cycle for the Pennington, SD, Nonappropriated Fund Wage Area

AGENCY: Office of Personnel Management.

ACTION: Proposed rule with request for comments.

SUMMARY: The Office of Personnel Management is issuing a proposed rule that would change the timing of local wage surveys in the Pennington, South Dakota, nonappropriated fund (NAF) Federal Wage System (FWS) wage area. The change would help balance the workload for the Department of Defense and improve the amount and quality of data it collects during local annual wage surveys in the Pennington wage area.

DATES: The Office of Personnel Management must receive comments by January 18, 2001.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Chenty I. Carpenter at (202) 606-8359; by FAX at (202) 606-4264; or by email at cicarpen@opm.gov.

SUPPLEMENTARY INFORMATION: The Department of Defense (DOD) has requested that the Office of Personnel Management (OPM) change the timing of local wage surveys in the Pennington, South Dakota, nonappropriated fund (NAF) Federal Wage System (FWS) wage area. Full-scale wage surveys currently begin in January of each even-numbered fiscal year. Full-scale wage surveys would begin in the future in June of each even-numbered fiscal year. Under section 532.207 of title 5, Code of Federal Regulations, the scheduling of wage surveys takes into consideration the best timing in relation to wage adjustments in the principal local private enterprise establishments, reasonable distribution of workload of the lead agency, timing of surveys for nearby wage areas, and scheduling relationships with other pay surveys.

DOD asked OPM to change the starting time for local wage surveys in the Pennington wage area to June of even fiscal years to help avoid the problems created by inclement weather in western South Dakota during the month of January and to balance the overall workload of its NAF survey office. DOD would conduct its regular wage-change survey in January 2001, then it would conduct full-scale wage surveys in Pennington County in June 2001 and June 2002.

The Federal Prevailing Rate Advisory Committee, the national labor-management committee responsible for advising OPM on matters concerning the pay of FWS employees, recommended by consensus that we change the full-scale survey cycle for the Pennington NAF wage area from January of even-numbered fiscal years to June of even-numbered fiscal years.

Regulatory Flexibility Act

I certify that this regulation would not have a significant economic impact on a substantial number of small entities because it would affect only Federal agencies and employees.

List of Subjects in 5 CFR Part 532

Administrative practice and procedure, Freedom of information, Government employees, Reporting and recordkeeping requirements, Wages.

U.S. Office of Personnel Management.
Janice R. Lachance,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

Appendix A to Subpart B of Part 532 [Amended]

2. Appendix B to Subpart B is amended by revising under the State of South Dakota the listing of beginning month of survey from “January” to “June” for the Pennington NAF wage area.

[FR Doc. 00-32286 Filed 12-18-00; 8:45 am]

BILLING CODE 6325-01-P